DEPARTMENT OF COMMERCE

Foreign-Trade Zones Board

[Order No. 1813]

Reorganization of Foreign-Trade Zone 275 Under Alternative Site Framework; Lansing, MI

Pursuant to its authority under the Foreign-Trade Zones Act of June 18, 1934, as amended (19 U.S.C. 81a-81u), the Foreign-Trade Zones Board (the Board) adopts the following Order:

Whereas, the Board adopted the alternative site framework (ASF) (74 FR 1170, 01/12/09; correction 74 FR 3987, 01/22/09; 75 FR 71069-71070, 11/22/10) as an option for the establishment or reorganization of general-purpose zones;

Whereas, the Capital Region Airport Authority, grantee of Foreign-Trade Zone 275, submitted an application to the Board (FTZ Docket 58-2011, filed 9/27/2011) for authority to reorganize under the ASF with a service area of Clinton, Eaton, Gratiot, Ingham, Isabella (portion), Jackson, Livingston and Shiawassee Counties, Michigan, adjacent to the user fee airport designated by U.S. Customs and Border Protection at the Capital Regional International Airport, Lansing, and FTZ 275's existing Site 1 would be categorized as a magnet site;

Whereas, notice inviting public comment was given in the Federal Register (76 FR 61075, 10/3/2011) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize FTZ 275 under the alternative site framework is approved, subject to the FTZ Act and the Board's regulations, including Section 400.28, and to the Board's standard 2,000-acre activation limit for the overall general-purpose zone project.

Signed at Washington, DC, this 31st day of January 2012.
Paul Piquado,
Assistant Secretary of Commerce for Import Administration, Alternate Chairman, Foreign-Trade Zones Board.

ATTEST:

Andrew McGilvray,
Executive Secretary.

[FR Doc. 2012-2773 Filed 2-6-12; 8:45 am]

BILLING CODE P